DEPARTMENT OF COMMERCE

Minority Business Development Agency

[Docket No.: 240508-0134]

Minority Business Enterprises Advisory Council Meeting

AGENCY: Minority Business Development Agency (MBDA), Department of Commerce.

ACTION: Notice of an open meeting.

SUMMARY: The Minority Business Enterprises Advisory Council (MBEAC) will hold its inaugural meeting to provide an orientation for new committee members and an overview of future work products to fulfill the MBEAC's charter and statutory mandates.

DATES: The meeting will be held on Friday, May 31, 2024, from 9:30 a.m. to 5:00 p.m. Eastern Daylight Time (EDT).

ADDRESSES: This meeting will be held at the Herbert Clark Hoover Building of the U.S. Department of Commerce, located at 1401 Constitution Avenue NW, Washington, DC 20230.

FOR FURTHER INFORMATION CONTACT: Joann J. Hill, primary Designated Federal Officer (DFO), Minority Business Development Agency, U.S. Department of Commerce at (202) 482-4826; email: Jhill@mbda.gov.

SUPPLEMENTARY INFORMATION:

Background: The MBEAC is a non-discretionary advisory committee established pursuant to 15 U.S.C. 9571-73 and in accordance with the Federal Advisory Committee Act, 5 U.S.C. chapter 10. The MBEAC's objective is to provide the Under Secretary of Commerce for Minority Business Development with consensus advice from the public and private sector on a range of policy issues that affect socially or economically disadvantaged businesses, with duties including, but not limited to: identifying barriers to entrepreneurship and business growth; providing insight to relevant data, research, and policy alternatives; and serving as a source of knowledge and information on developments in areas of the economic and social life of the United States that affect socially or economically disadvantaged businesses.

Agenda: The agenda for the May 31, 2024, MBEAC meeting is as follows:

1. Welcome and introduction of council members

2. Discussion of MBEAC priorities

3. Establish working groups

4. Public comment period

The meeting is open to the public. Public seating is limited and available on a first-come, first-served basis. Members of the public wishing to attend the meeting must notify Nikia Young at nyoung@mbda.gov by 5 p.m. EDT on Friday, May 24, 2024, to preregister for clearance into the building. Please specify any requests for reasonable accommodation at least five (5) business days in advance of the meeting. Last-minute requests will be accepted but may not be possible to fulfill. A designated amount of time, from 4:15 p.m.-4:45 p.m., will be available for pertinent brief oral comments from members of the public attending the meeting. Any member of the public may submit pertinent written comments concerning the MBEAC's activities at http://www.mbda.gov/main/MBEAC-submit-comments. Any written comments received by 5 p.m. EDT on Wednesday, May, 22, 2024 will be transmitted to the Council prior to the meeting. Comments received after that date will be distributed to the members on a rolling basis.

This meeting is physically accessible to people with disabilities. Requests for sign language interpretation or other auxiliary aids should be directed to Joann J. Hill, at (202) 482-4826, or Jhill@mbda.gov, at least five (5) days before the meeting date. Copies of the MBEAC meeting minutes will be available to the public upon request.

Dated: May 9, 2024.
Eric Morrissette,
Acting Under Secretary, Minority Business Development Agency, U.S. Department of Commerce.

[FR Doc. 2024-10667 Filed 5-15-24; 8:45 am]

BILLING CODE P